DEPARTMENT OF LABOR

Employment and Training Administration

[TA-W-58,906]

Allianz Sweeper Company, Formerly Known as Johnston Sweeper Company; Chino, California; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance on March 23, 2006, applicable to workers of Allianz Sweeper Company, Chino, California. The notice was published in the Federal Register on April 12, 2006 (71 FR 18772).

At the request of the State agency, the Department reviewed the certification for workers of the subject firm. The workers are engaged in the production of street cleaning equipment.

The subject firm, originally named Johnston Sweeper Company, became known as Allianz Sweeper Company after Allianz Sweeper Company purchased the assets of Johnston Sweeper in August 2005.

Workers separated from employment at the subject firm had their wages reported under a separate unemployment insurance (UI) tax accounts for Johnston Sweeper Company.

Accordingly, the Department is amending this certification to properly reflect this matter.

The intent of the Department's certification is to include all workers of Allianz Sweeper Company, formerly known as Johnston Sweeper Company who was adversely affected by a shift in production to Canada.

The amended notice applicable to TA-W-58,906 is hereby issued as follows:

All workers of Allianz Sweeper Company, formerly known as Johnston Sweeper Company, Chino, California, who became totally or partially separated from employment on or after February 21, 2005 through March 23, 2008, are eligible to apply for adjustment assistance under Section 223 of the Trade Act of 1974, and are also eligible to apply for alternative trade adjustment assistance under Section 246 of the Trade Act of 1974.

Signed at Washington, DC, this 18th day of September 2006.
Elliott S. Kushner,
Certifying Officer, Division of Trade Adjustment Assistance.

[FR Doc. E6-16098 Filed 9-29-06; 8:45 am]

BILLING CODE 4510-30-P